DEPARTMENT OF HOMELAND SECURITY

U.S. Customs and Border Protection

DEPARTMENT OF THE TREASURY

19 CFR Parts 159 and 181

[CBP Dec. 17-08]

Technical Corrections to U.S. Customs and Border Protection Regulations

AGENCY: U.S. Customs and Border Protection, Department of Homeland Security; Department of the Treasury.

ACTION: Final rule.

SUMMARY: U.S. Customs and Border Protection (CBP) periodically reviews its regulations to ensure that they are current, correct, and consistent. Through this review process, CBP discovered some discrepancies. This document amends certain sections of title 19 of the Code of Federal Regulations to remedy these discrepancies.

DATES: The final rule is effective July 28, 2017.

FOR FURTHER INFORMATION CONTACT: Grace A. Kim, Regulations and Rulings, Office of Trade, (202) 325-7941.

SUPPLEMENTARY INFORMATION:

Background

It is the policy of U.S. Customs and Border Protection (CBP) to periodically review title 19 of the Code of Federal Regulations (19 CFR) to ensure that it is accurate and up-to-date so that the importing and general public is aware of CBP programs, requirements, and procedures regarding import-related activities. As part of this review policy, CBP has determined that certain corrections to 19 CFR parts 159 and 181 are necessary.

Discussion of Changes

Part 159

Section 159.58 (19 CFR 159.58) concerns the suspension of liquidation by CBP when there are antidumping and countervailing duty determinations. The references to part 353 of title 19 CFR in 19 CFR 159.58(a) and to part 355 of title 19 CFR in 19 CFR 159.58(b) are incorrect. On May 19, 1997, the U.S. Department of Commerce revised its regulations on antidumping and countervailing duty proceedings to conform to the Uruguay Round Agreements Act (62 FR 27296) (May 19, 1997) which resulted in a new part 351 and the deletion of parts 353 and 355. Accordingly, this document makes conforming changes to §§ 159.58(a) and 159.58(b) to reflect this revision.

Part 181

Subpart D of Part 181 of title 19 deals with post-importation duty refund claims under the North American Free Trade Agreement (NAFTA). Section 181.33(d)(1) lists instances wherein a port director may deny a post-importation duty refund claim for preferential tariff treatment for imported goods under the NAFTA, and it references § 181.32(b)(3) in the context of the validity of a Certificate of Origin. This is not the correct reference. The proper reference should be to § 181.32(b)(2), which references the requirement to file a Certificate of Origin with respect to the imported goods. Accordingly, this document makes changes to § 181.33(d)(1) to reference § 181.32(b)(2) instead of § 181.32(b)(3).

Inapplicability of Notice and Delayed Effective Date

As the technical corrections set forth in this document merely conform to existing law and regulation, CBP finds that good cause exists for dispensing with notice and public procedure as unnecessary under 5 U.S.C. 553(b)(B). For this same reason, pursuant to 5 U.S.C. 553(d)(3), CBP finds that good cause exists for dispensing with the requirement for a delayed effective date.

Regulatory Flexibility Act

Because this document is not subject to the notice and public procedure requirements of 5 U.S.C. 553, it is not subject to the provisions of the Regulatory Flexibility Act (5 U.S.C. 601 et seq.).

Executive Order 12866

These amendments do not meet the criteria for a “significant regulatory action” as specified in Executive Order 12866, as supplemented by Executive Order 13563.

Signing Authority

This document is limited to technical corrections of the CBP regulations. Accordingly, it is being signed under the authority of 19 CFR 0.1(b)(1).

List of Subjects

19 CFR Part 159

Alcohol and alcohol beverages, Antidumping (Liquidation of duties), Cigars and cigarettes, Computer technology, Countervailing duties (Liquidation of duties), Customs duties and inspection, Discriminating duties, Entry procedures, Foreign currencies, Import, Liquidation of entries for merchandise, Suspension of liquidation pending disposition of American manufacturer's cause of action, Value content.

19 CFR Part 181

Administrative practice and procedure, Canada, Customs duties and inspection, Exports, Imports, Mexico, Reporting and recordkeeping requirements, Trade agreements (North American Free-Trade Agreements).

Amendments to the Regulations

For the reasons set forth above, parts 159 and 181 of the CBP regulations (19 CFR parts 159 and 181) are amended as set forth below.

PART 159—LIQUIDATION OF DUTIES

1. The general authority citation for part 159 continues to read as follows:

Authority: 19 U.S.C. 66, 1500, 1504, 1624.

* * * * *

§ 159.58 [Amended]

2. Section 159.58 is amended:

a. In paragraph (a) by removing the term “part 353” and adding in its place the term “part 351”; and

b. In paragraph (b) by removing the term “part 355” and adding in its place the term “part 351”.

PART 181—NORTH AMERICAN FREE TRADE AGREEMENT

3. The authority citation for part 181 continues to read as follows:

Authority: 19 U.S.C. 66, 1202 (General Note 3(i), Harmonized Tariff Schedule of the United States (HTSUS)), 1624, 3314.

Subpart D of part 181 also issued under 19 U.S.C. 1520(d).

§ 181.33 [Amended]

4. Section 181.33(d)(1) is amended by removing the citation “§ 181.32(b)(3)” and adding in its place the citation “§ 181.32(b)(2)”.

Dated: July 24, 2017.
Kevin K. McAleenan,
Acting Commissioner, U.S. Customs and Border Protection.

[FR Doc. 2017-15888 Filed 7-27-17; 8:45 am]

BILLING CODE 9111-14-P